DEPARTMENT OF TRANSPORTATION

Federal Aviation Administration

Notice of Availability of the Final Re-Evaluation of the O'Hare Modernization Environmental Impact Statement (Final Re-Evaluation)

AGENCY: Federal Aviation Administration, DOT.

ACTION: Notice of Availability of the Final Re-Evaluation of the O'Hare Modernization Environmental Impact Statement (Final Re-Evaluation).

SUMMARY: The Federal Aviation Administration (FAA) announces that the Final Written Re-Evaluation of the O'Hare Modernization Environmental Impact Statement (Final Re-Evaluation) for Chicago O'Hare International Airport, Chicago, Illinois is available.

The Final Re-Evaluation identifies the potential environmental impacts associated with the construction schedule modification that alters the timing for commissioning new Runway 10R/28L, new Runway 9C/27C, and the extension of Runway 9R/27L at O'Hare International Airport pursuant to the National Environmental Policy Act.

ADDRESSES: Location of Proposed Action: O'Hare International Airport, Des Plaines and DuPage River Watersheds, Cook and DuPage Counties, Chicago, Illinois (Sections 4, 5, 6, 7, 8, 9, 16, 17, and 18, Township 41 North, Range 10 East, 3rd P.M.).

FOR FURTHER INFORMATION CONTACT: Amy Hanson, Environmental Protection Specialist, Federal Aviation Administration, Chicago Airports District Office, 2300 East Devon Avenue, Des Plaines, IL 60018, FAX: 847-294-7046, email address: omre-eval@faa.gov.

SUPPLEMENTARY INFORMATION: The Final Re-Evaluation is available on line (http://www.faa.gov/airports/airport_development/omp/eis_re-eval/) and was provided to the following libraries:

Addison Public Library | 4 Friendship Pl | Addison.
Albany Park Library | 3401 W. Foster Ave | Chicago.
Arlington Heights Library | 500 N. Dunton Ave | Arlington Heights.
Austin Irving Library | 6100 E. Irving Park Rd | Chicago.
Bartlett Public Library | 800 South Bartlett Rd | Bartlett.
Bellwood Public Library | 600 Bohland Ave | Bellwood.
Bensenville Community Public Library | 200 S. Church Rd | Bensenville.
Berkeley Public Library | 1637 Taft Ave | Berkeley.
Bezazian Library | 1226 W. Ainslie St | Chicago.
Bloomingdale Public Library | 101 Fairfield Way | Bloomingdale.
Bucktown—Wicker Park Library | 1701 N. Milwaukee Ave | Chicago.
Budlong Woods Library | 5630 N. Lincoln Ave | Chicago.
Carol Stream Public Library | 616 Hiawatha Dr | Carol Stream.
College of DuPage Library | 425 Fawell Blvd | Glen Ellyn.
Conrad Sulzer Regional Library | 4455 N. Lincoln Ave | Chicago.
Des Plaines Public Library | 1501 Ellinwood Ave | Des Plaines.
Dunning Library | 7455 W. Cornelia Ave | Chicago.
Edgebrook Library | 5331 W. Devon Ave | Chicago.
Edgewater Library | 6000 N. Broadway | Chicago.
Eisenhower Public Library | 4652 N. Olcott Ave | Harwood Heights.
Elk Grove Village Public Library | 1001 Wellington Ave | Elk Grove Village.
Elmhurst Public Library | 211 Prospect Ave | Elmhurst.
Elmwood Park Public Library | 4 W. Conti Pkwy | Elmwood Park.
Evanston Public Library | 1703 Orrington Ave | Evanston.
Forest Park Public Library | 7555 Jackson Blvd | Forest Park.
Franklin Park Public Library | 10311 Grand Ave | Franklin Park.
Galewood—Mont Clare Library | 6871 W. Belden Ave | Chicago.
Glendale Heights Library | 25 E. Fullerton Ave | Glendale Heights.
Glenview Public Library | 1930 Glenview Rd | Glenview.
Glen Ellyn Public Library | 400 Duane St | Glen Ellyn.
Hanover Park Branch Library | 1266 Irving Park Rd | Hanover Park.
Harold Washington Library | 400 S. State St | Chicago.
Hillside Public Library | 405 Hillside Ave | Hillside.
Hoffman Estates Library | 1550 Hassell Rd | Hoffman Estates.
Humboldt Park Library | 1605 N. Troy St | Chicago.
Independence Library | 3548 W. Irving Park Rd | Chicago.
Itasca Community Library | 500 W. Irving Park Rd | Itasca.
Jefferson Park Library | 5363 W. Lawrence Ave | Chicago.
Lincoln Belmont Library | 1659 W. Melrose St | Chicago.
Lincoln Park Library | 1150 W. Fullerton Ave | Chicago.
Logan Square Library | 3030 W. Fullerton Ave | Chicago.
Lombard Public Library | 110 W. Maple St | Lombard.
MayFair Library | 4400 W. Lawrence Ave | Chicago.
Maywood Public Library | 121 S. 5th Ave | Maywood.
Melrose Park Public Library | 801 N. Broadway | Melrose Park.
Merlo Library | 644 W. Belmont Ave | Chicago.
Morton Grove Public Library | 6140 Lincoln Ave | Morton Grove.
Mount Prospect Public Library | 10 S. Emerson St | Mount Prospect.
Niles Public Library | 6960 W. Oakton St | Niles.
North Austin Library | 5724 W. North Ave | Chicago.
North Pulaski Library | 4300 W. North Ave | Chicago.
Northlake Public Library | 231 N. Wolf Rd | Northlake.
Northtown Library | 6435 N. California Ave | Chicago.
Oak Park Public Library | 834 Lake St | Oak Park.
Oakton Community College Library | 1616 E. Golf Rd | Des Plaines.
Oriole Park Library | 7454 W. Balmoral Ave | Chicago.
Park Ridge Public Library | 20 S. Prospect Ave | Park Ridge.
Portage-Cragin Library | 5108 W. Belmont Ave | Chicago.
Prospect Heights Public Library | 12 North Elm Street | Prospect Heights.
River Forest Public Library | 735 Lathrop Ave | River Forest.
River Grove Public Library | 8638 W. Grand Ave | River Grove.
Roden Library | 6083 N. Northwest Highway | Chicago.
Rogers Park Library | 6907 N. Clark St | Chicago.
Rolling Meadows Library | 3110 Martin Ln | Rolling Meadows.
Roselle Public Library | 40 South Park St | Roselle.
Schaumburg Township District Library | 130 S. Roselle Rd | Schaumburg.
Schiller Park Public Library | 4200 Old River Rd | Schiller Park.
Skokie Public Library | 5215 Oakton Street | Skokie.
Uptown Library | 929 W. Buena Ave | Chicago.
Villa Park Public Library | 305 S. Ardmore Ave | Villa Park.
West Belmont | 3104 N. Narragansett Ave | Chicago.
Wilmette Public Library | 1242 Wilmette Ave | Wilmette.
Wood Dale Public Library | 520 N. Wood Dale Rd | Wood Dale.

Issued in Des Plaines, Illinois, October 6, 2015.
James G. Keefer,
Manager, Chicago Airports District Office.

[FR Doc. 2015-26007 Filed 10-13-15; 8:45 am]

BILLING CODE 4910-13-P